DEPARTMENT OF ENERGY

Federal Energy Regulatory Commission

Combined Notice of Filings #1

Take notice that the Commission received the following exempt wholesale generator filings:

Docket Numbers: EG16-49-000.

Applicants: Seward Generation, LLC.

Description: Self-Certification of EG or FC of Seward Generation, LLC.

Filed Date: 2/2/16.

Accession Number: 20160202-5243.

Comments Due: 5 p.m. ET 2/23/16.

Take notice that the Commission received the following electric rate filings:

Docket Numbers: ER10-1946-011; ER15-622-005; ER15-621-005; ER15-463-005; ER15-2722-001; ER15-110-005; ER14-2871-006; ER14-2382-006; ER14-1777-004; ER13-1586-007; ER13-1485-005; ER11-3861-011; ER11-2639-007; ER10-3310-009; ER10-3299-008; ER10-3286-009; ER10-3253-005; ER10-3251-006; ER10-3250-007; ER10-3249-007; ER10-3245-007; ER10-3244-008; ER10-3243-008; ER10-3240-005; ER10-3239-005; ER10-3237-005; ER10-3233-004; ER10-3232-003; ER10-3231-004; ER10-3230-005; ER10-1992-013.

Applicants: Broad River Energy LLC, Victory Garden Phase IV, LLC, TGP Energy Management, LLC, Terra-Gen Energy Services, LLC, San Gorgonio Westwinds II, LLC, Ridgetop Energy, LLC, Ridge Crest Wind Partners, LLC, Pacific Crest Power, LLC, ON Wind Energy LLC, Oak Creek Wind Power, LLC, Foote Creek IV, LLC, Foote Creek III, LLC, Foote Creek II, LLC, Coso Geothermal Power Holdings, LLC, Chandler Wind Partners, LLC, Cameron Ridge, LLC, Wheelabrator Westchester, L.P., Wheelabrator South Broward Inc., Wheelabrator Shasta Energy Company Inc., Wheelabrator Saugus Inc., Wheelabrator Ridge Energy Inc., Wheelabrator Portsmouth Inc., Wheelabrator North Andover Inc., Wheelabrator Frackville Energy Company Inc., Wheelabrator Falls Inc., Wheelabrator Bridgeport, L.P., Wheelabrator Baltimore, L.P., New Athens Generating Company, LLC, Millennium Power Partners, L.P., New Harquahala Generating Company, LLC, Empire Generating Co, LLC.

Description: Supplement to October 1, 2015 Notice of Change in Status of the ECP MBR Sellers.

Filed Date: 12/31/15.

Accession Number: 20151231-5407.

Comments Due: 5 p.m. ET 2/24/16.

Docket Numbers: ER10-2839-004.

Applicants: Midland Cogeneration Venture Limited Partnership.

Description: Supplement to June 30, 2015 Updated Market Power Analysis of Midland Cogeneration Venture Limited Partnership.

Filed Date: 1/29/16.

Accession Number: 20160129-5524.

Comments Due: 5 p.m. ET 2/19/16.

Docket Numbers: ER15-2648-001.

Applicants: PJM Interconnection, L.L.C.

Description: Compliance filing: Compliance per Nov 3, 2015 Order re: Fee Proposal Window Effective Date to be effective 2/16/2016.

Filed Date: 2/2/16.

Accession Number: 20160202-5254.

Comments Due: 5 p.m. ET 2/23/16.

Docket Numbers: ER16-498-000.

Applicants: RE Mustang LLC, RE Mustang 3 LLC, RE Mustang 4 LLC, RE Barren Ridge 1 LLC.

Description: Clarification to December 10, 2015 and December 29, 2015 RE Mustang LLC, RE Mustang 3 LLC, RE Mustang 4 LLC and RE Barren Ridge 1 LLC tariff filings.

Filed Date: 2/2/16.

Accession Number: 20160202-5256.

Comments Due: 5 p.m. ET 2/12/16.

Docket Numbers: ER16-872-000.

Applicants: Midcontinent Independent System Operator, Inc.

Description: Section 205(d) Rate Filing: 2016-02-02_SA 2886 MidAmerican-MidAmerican GIA (J279) to be effective 2/3/2016.

Filed Date: 2/2/16.

Accession Number: 20160202-5197.

Comments Due: 5 p.m. ET 2/23/16.

Docket Numbers: ER16-873-000.

Applicants: PJM Interconnection, L.L.C.

Description: Section 205(d) Rate Filing: Revisions to OATT and OA RE Demand Resource CBL to be effective 4/4/2016.

Filed Date: 2/2/16.

Accession Number: 20160202-5199.

Comments Due: 5 p.m. ET 2/23/16.

Docket Numbers: ER16-874-000.

Applicants: PJM Interconnection, L.L.C.

Description: Section 205(d) Rate Filing: Amendment to WMPA No. 4244, Queue No. Z1-081 to be effective 7/20/2015.

Filed Date: 2/2/16.

Accession Number: 20160202-5253.

Comments Due: 5 p.m. ET 2/23/16.

Docket Numbers: ER16-875-000.

Applicants: Otter Tail Power Company.

Description: Notice of Termination of Supplement Nos. 1 and 4 (as supplemented) to Rate Schedule No. 171 of Otter Tail Power Company.

Filed Date: 2/2/16.

Accession Number: 20160202-5264.

Comments Due: 5 p.m. ET 2/23/16.

Docket Numbers: ER16-876-000.

Applicants: PJM Interconnection, L.L.C.

Description: Tariff Cancellation: Notice of Cancellation of WMPA SA No. 2974, Queue No. W4-080 to be effective 2/3/2016.

Filed Date: 2/3/16.

Accession Number: 20160203-5054.

Comments Due: 5 p.m. ET 2/24/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2016.
Nathaniel J. Davis, Sr.,
Deputy Secretary.

[FR Doc. 2016-02493 Filed 2-8-16; 8:45 am]

BILLING CODE 6717-01-P